DEPARTMENT OF ENERGY

Federal Energy Regulatory Commission

Combined Notice of Filings #1

January 22, 2007.

Take notice that the Commission received the following electric rate filings:

Docket Numbers: ER94-389-025; ER02-2509-004; ER00-840-005; ER01-137-003; ER98-1767-008; ER99-2992-005; ER99-3165-005; ER02-1942-004; ER01-596-003; ER01-2690-007; ER02-77-007; ER00-1780-005; ER99-415-012; ER01-389-005; ER01-2641-009; ER01-558-008; ER01-557-008; ER01-560-008; ER01-559-008.

Applicants: Tenaska Power Services Company; Kiowa Power partners, LLC; Tenaska Alabama Partners, L.P.; Tenaska Alabama II Partners, L.P.; Tenaska Frontier Partners, Ltd.; Tenaska Gateway Partners, Ltd.; Tenaska Georgia Partners, L.P.; Tenaska Virginia Partners, L.P.; Alabama Electric Marketing, LLC; California Electric Marketing, LLC; New Mexico Electric Marketing, LLC; Texas Electric Marketing, LLC; Commonwealth Chesapeake Company, LLC; Calumet Energy Team, LLC; High Desert Power Project, LLC; Holland Energy, LLC; University Park Energy, LLC; Big Sandy Peaker Plant, LLC; Wolf Hills Energy, LLC.

Description: Tenaska Power Services Co, Kiowa Power Partners, LLC, Tenaska Alabama Partners, LP et al. submit a notification of change in status in connection with the recent indirect acquisition by TPF Generation Holdings, LLC.

Filed Date: 01/16/2007.

Accession Number: 20070119-0103.

Comment Date: 5 p.m. Eastern Time on Tuesday, February 6, 2007.

Docket Numbers: ER99-3665-007; ER02-1947-008.

Applicants: Occidental Power Marketing L.P.; Occidental Power Services, Inc.

Description: Occidental Power Marketing LP et al. submits a notice of change in status with respect to the characteristics relied upon to grant continued authorizations to engage in wholesale sales of electricity.

Filed Date: 01/12/2007.

Accession Number: 20070119-0104.

Comment Date: 5 p.m. Eastern Time on Friday, February 2, 2007.

Docket Numbers: ER06-216-002.

Applicants: Midwest Independent Transmission System Operator, Inc.

Description: Midwest Independent Transmission System Operator Inc. submits an amended Large Generator Interconnection Agreement among Ameren Services Co. et al.

Filed Date: 01/18/2007.

Accession Number: 20070119-0205

Comment Date: 5 p.m. Eastern Time on Thursday, February 8, 2007.

Docket Numbers: ER06-268-003; ER06-261-001; ER03-510-007; EL03-22-003; EL02-15-004.

Applicants: Los Esteros Critical Energy Facility LLC; Delta Energy Center, LLC; Geysers Power Company, LLC; Creed Energy Center, LLC; Gilroy Energy Center, LLC; Goose Haven Energy Center, LLC; Los Medanos Energy Center, LLC; Metcalf Energy Center, LLC; Pacific Gas and Electric Company; California Independent System Operator Corporation; California Electricity Oversight Board.

Description: Delta Energy Center, LLC et al. submit a joint First Amendment to the Settlement Agreement and release of claims agreement entered into as of 10/12/06.

Filed Date: 01/12/2007.

Accession Number: 20070118-0273.

Comment Date: 5 p.m. Eastern Time on Friday, February 2, 2007.

Docket Numbers: ER06-1059-001.

Applicants: Midwest Independent Transmission System Operator, Inc.

Description: Midwest Independent Transmission System Operator, Inc. submits a large Generator Interconnection Agreement with Ameren Energy Generation Co. et al.

Filed Date: 01/18/2007.

Accession Number: 20070119-0201.

Comment Date: 5 p.m. Eastern Time on Thursday, February 8, 2007.

Docket Numbers: ER07-443-000.

Applicants: ISO New England Inc.; New England Power Pool Participants Committee.

Description: ISO New England Inc et al jointly submit revised tariff sheets reflecting proposed revisions to Market Rule 1 and Appendix C to Market Rule 1.

Filed Date: 01/18/2007.

Accession Number: 20070119-0207.

Comment Date: 5 p.m. Eastern Time on Thursday, February 8, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive email notification when a document is added to a subscribed dockets(s). For assistance with any FERC Online service, please email FERCOnlineSupport@ferc.gov. or call (866) 208-3676 (toll free). For TTY, call (202) 502-8659.

Magalie R. Salas,
Secretary.

[FR Doc. E7-1269 Filed 1-25-07; 8:45 am]

BILLING CODE 6717-01-P